DEPARTMENT OF HEALTH AND HUMAN SERVICES

Food and Drug Administration

[Docket Nos. FDA-2024-N-3902; FDA-2024-N-4754; FDA-2018-D-1873; FDA-2024-N-4146; FDA-2021-N-0862; FDA-2008-D-0053; FDA-2024-N-5338; FDA-2024-N-3112; FDA-2024-N-4167; FDA-2024-N-3675; FDA-2025-N-0338; FDA-2025-N-2193]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Domini Bean, Office of Operations, Food and Drug Administration, Three White Flint North, 10A-12M, 11601 Landsdown St., North Bethesda, MD 20852, 301-796-5733, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at https://www.reginfo.gov/public/do/PRAMain. An Agency may not conduct or sponsor, and a person is not required to respond to, a collection of information unless it displays a currently valid OMB control number.

Table 1—List of Information Collections Approved by OMB
Title of collection | OMB Control No. | Date approval expires
Registration of Producers of Drugs and Listing of Drugs in Commercial Distribution | 0910-0045 | 07/31/2028
Financial Disclosure by Clinical Investigators | 0910-0396 | 07/31/2028
MDUFMA Small Business Qualification Certification | 0910-0508 | 07/31/2028
Biosimilar User Fee Program | 0910-0718 | 07/31/2028
General Drug Labeling Provisions and OTC Monograph Drug User Fee Submissions | 0910-0340 | 07/31/2028
Applications for FDA Approval to Market a New Drug | 0910-0001 | 07/31/2027
Prescription Drug Advertisements and Product Communications | 0910-0686 | 07/31/2028
Medical Device Labeling Requirements | 0910-0485 | 07/31/2028
Interstate Shellfish Dealer's Certificate | 0910-0021 | 07/31/2028
Postmarketing Adverse Drug Experience Reporting | 0910-0230 | 07/31/2028
Labeling Requirements for Human Prescription Drug and Biological Products | 0910-0572 | 07/31/2028
Pharmaceutical Distribution Supply Chain | 0910-0806 | 08/31/2028
Export Notification and Recordkeeping Requirements | 0910-0482 | 09/30/2028
Tobacco Products, User Fees, Requirements for the Submission of Data Needed to Calculate User Fees for Domestic Manufacturers and Importers of Tobacco Products | 0910-0749 | 09/30/2028

Grace R. Graham,
Deputy Commissioner for Policy, Legislation, and International Affairs.

[FR Doc. 2025-18621 Filed 9-24-25; 8:45 am]

BILLING CODE 4164-01-P